DEPARTMENT OF THE INTERIOR

National Park Service

[NPS-IMR-ZION-15480; PX.PD166570D.00.1]

Boundary Description and Final Maps for Virgin River, Zion National Park, Utah

AGENCY: National Park Service, Interior.

ACTION: Notice of availability.

SUMMARY: In accordance with the Wild and Scenic Rivers Act, the National Park Service has transmitted the final boundary description and map of the Virgin Wild and Scenic River to Congress. The classification and boundaries became effective as stated elsewhere in this notice.

DATES: The boundaries and classification of the Virgin Wild and Scenic River became effective October 26, 2014.

ADDRESSES: Documents may be viewed at any National Park Service Office through the LandsNet Web site [http://landsnet.nps.gov/tractsnet/documents/ZION/Miscellaneous/zion_VirginWSR_116-123881-83,85,87,89-90.pdf] and at Zion National Park Headquarters, SR 9 Springdale, UT 84767.

FOR FURTHER INFORMATION CONTACT: National Park Service Denver Service Center, 12795 W. Alameda Parkway, Denver, CO 80228, 303-969-2325; tracy_atkins@nps.gov. Individuals who use telecommunication devices for the deaf (TDD) may call the Federal Information Relay Service (FIRS) at 1-800-877-8339 between 8:00 a.m. and 8:00 p.m., Eastern Time, Monday through Friday.

SUPPLEMENTARY INFORMATION: The Omnibus Public Land Management Act of 2009 (Pub. L. 111-11) of March 30, 2009, designated the Virgin Wild and Scenic River, to be administered by the Secretary of Interior. As specified by law (16 U.S.C. 1274(b)), the boundary becomes effective 90 days after the boundary amendments are forwarded to Congress. Since the boundary amendments were forwarded on July 28, 2014, the boundaries became effective on October 26, 2014.

Additional portions of the Virgin Wild and Scenic River are managed by the Bureau of Land Management. In accordance with national BLM policies outlined in BLM's Manual 6120, section .12, Congressionally Required Maps and Legal Boundary Descriptions for NLCS Designations requires that legal boundary description must be developed in conformance with BLM's Manual of Surveying Instructions, 2009 and be finalized by the State Office Chief Cadastral Surveyor. Utah BLM will prepare these maps and legal boundary descriptions specific to the BLM segments of the Virgin River. Utah BLM will submit them to Congress as an amended submittal and to the Eastern States Office (in accordance with Manual 6120) at a later date.

Dated: May 27, 2015.
Sue E. Masica,
Regional Director, Intermountain Region, National Park Service.

[FR Doc. 2015-16475 Filed 7-2-15; 8:45 am]

BILLING CODE 4312-CB-P